DEPARTMENT OF THE INTERIOR

Fish and Wildlife Service

50 CFR Part 17

RIN 1018-AI52

Endangered and Threatened Wildlife and Plants; Proposed Designation of Critical Habitat for the Klamath River and Columbia River Populations of Bull Trout (Salvelinus confluentus)

AGENCY: Fish and Wildlife Service, Interior.

ACTION: Proposed rule; reopening of comment period and notice of availability of draft economic analysis.

SUMMARY: We, the U.S. Fish and Wildlife Service, announce the reopening of the public comment period on the proposal to designate critical habitat for the Klamath River and Columbia River populations of bull trout (Salvelinus confluentus), and the availability of the draft economic analysis of the proposed designation of critical habitat. We are reopening the comment period to allow all interested parties to comment simultaneously on the proposed rule and the associated draft economic analysis. Comments previously submitted need not be resubmitted as they will be incorporated into the public record as part of this comment period, and will be fully considered in preparation of the final rule.

DATES: We will accept public comments until May 5, 2004.

ADDRESSES: Written comments and materials may be submitted to us by any one of the following methods:

1. You may submit written comments and information to John Young, Bull Trout Coordinator, U.S. Fish and Wildlife Service, Ecological Services, 911 NE 11th Avenue, Portland, OR 97232;

2. You may hand-deliver written comments and information to our office, at the above address, or fax your comments to 503/231-6243; or

3. You may also send comments by electronic mail (e-mail) to:

R1BullTroutCH@r1.fws.gov. For directions on how to submit electronic filing of comments, see the “Public Comments Solicited” section. In the event that our internet connection is not functional, please submit you comments by the alternate methods mentioned above.

FOR FURTHER INFORMATION CONTACT: John Young, at the address above (telephone 503/231-6194; facsimile 503/231-6243).

SUPPLEMENTARY INFORMATION:

Public Comments Solicited

We will accept written comments and information during this reopened comment period. We solicit comments on the original proposed critical habitat designation (November 29, 2002, 67 FR 71235) and on our draft economic analysis of the proposed designation. We are particularly interested in comments concerning:

(1) The reasons why any habitat should or should not be determined to be critical habitat as provided by section 4 of the Act, including whether the benefits of excluding any particular area as critical habitat outweigh the benefits of specifying such area as part of the critical habitat;

(2) Specific information on the amount and distribution of bull trout and its habitat, and which habitat is essential to the conservation of this species and why;

(3) Land use designations and current or planned activities in the subject areas and their possible impacts on proposed critical habitat;

(4) Any foreseeable economic or other impacts resulting from the proposed designation of critical habitat, in particular, any impacts on small entities or families beyond those identified in section 4.3 (Potential Impacts on Small Entities);

(5) How our approach to critical habitat designation could be improved or modified to provide for greater public participation and understanding, or to assist us in accommodating public concern and comments;

(6) Whether the economic analysis identifies all State and local costs. If not, what other costs are overlooked;

(7) Whether the economic analysis makes appropriate assumptions regarding current practices and likely regulatory changes imposed as a result of the designation of critical habitat;

(8) Whether the economic analysis appropriately identifies all costs that could result from the designation;

(9) Whether the economic analysis correctly assesses the effect on regional costs associated with land use controls that derive from the designation;

(10) Whether the designation will result in disproportionate economic impacts to specific areas that should be evaluated for possible exclusion from the final designation;

(11) Are data available on costs to the Bonneville Power Administration associated with the listing of the bull trout and the designation of critical habitat for the species in the Columbia River basin beyond foregone power revenues of $2-$4 million per year, possible future facility modifications totaling $1.1-$1.3 million per year, and the costs of $266-$366 thousand per year attributable to fish studies;

(12) Are data available related to costs associated with timber harvesting activities beyond the consultation costs and the estimated $1.64-$4.14 million per year relative to project modifications to U.S. Forest Service timber harvest activities;

(13) Is it an appropriate assumption that the analysis assumes that even though there are many consultations that address the bull trout, very few project modifications will result from these consultations beyond those identified for U.S. Forest Service timber harvest activities, Federal Columbia River Power System operations, grazing activity on BLM and Forest Service lands, U.S. Army Corps of Engineers construction and maintenance activities, Bureau of Reclamation activities, Federal Highway Administration bridge construction and maintenance activities, and Federal Energy Regulatory Commission activities;

(14) Is it appropriate that the analysis does not include the cost of project modifications to projects that are the result of informal consultation;

(15) Whether the analysis adequately captures and values various costs to water and power producing facilities and capabilities;

(16) Is it appropriate that the analysis used the life of the project to amortize the costs of fishery modification requirements rather than the revenue period;

(17) Are the determinations in Section 3.4 (Projected Future Section 7 Consultations Involving Bull Trout) appropriate to address the economic impacts associated with residential and commercial development;

(18) Is it appropriate that the analysis does not identify or discuss potential effects of the designation on employment beyond those implied by information contained in section 3.1.4 (Distributional and Regional Economic Effects) and section 4.3 (Potential Impacts on Small Entities);

(19) In our analysis we indicate that several factors potentially introduce uncertainty into the results of the analysis, and that we solicit from the public further information on any of these issues, specifically:

(a) are the data available to develop more accurate estimates of the number of future consultations, project modifications, and costs for the activities related to private lands;

(b) are the data available on additional land use practices, or current or planned activities in proposed critical habitat areas, that are not specifically or adequately addressed in this analysis;

(c) are the data available on additional indirect impacts (such as additional regulatory burdens from State or local laws triggered by the designation of critical habitat) that are not specifically or adequately addressed in this analysis;

(20) In our original listing document, we stated that protections afforded bull trout from existing Federal, State, or local laws provided inadequate levels of protection to prevent past and ongoing habitat degradation from negatively affecting bull trout. This analysis, however, states that some of the protections flowing from the designation of critical habitat already exist in the form of other Federal and State laws that generally protect various aspects of the environment. Should these costs identified as “baseline” and not calculated into the costs of critical habitat designation be included in the cost of the critical habitat designation and if so what data are available to identify those costs; and

(21) The economic analysis should identify all costs related to the designation of critical habitat for the bull trout which was intended to take place at the time the species was listed. As a result, the assumption is the economic analysis should be consistent with the Service's listing regulations. Does this analysis achieve that consistency?

All previous comments and information submitted during the initial comment period need not be resubmitted. Refer to the ADDRESSES section for information on how to submit written comments and information. Our final determination on the proposed critical habitat will take into consideration all comments and any additional information received.

Please submit electronic comments in an ASCII file format and avoid the use of special characters and encryption. Please also include “Attn: RIN 1018-AI52” and your name and return address in your e-mail message. If you do not receive a confirmation from the system that we have received your e-mail message, please contact the Bull Trout Coordinator, (see ADDRESSES section and For Further Information Contact).

Our practice is to make comments, including names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Comments and materials received, as well as supporting documentation used in preparation of the proposal to designate critical habitat, will be available for inspection, by appointment, during normal business hours, in the U.S. Fish and Wildlife Service Office at the above address.

Copies of the draft economic analysis are available on the Internet at http://www.r1.fws.gov or from the Bull Trout Coordinator at the address and contact numbers above. You may obtain copies of the proposed rule from the above address, by calling 503/231-6194, or from our Web site at: http://pacific.fws.gov/bulltrout.

Background

We published a proposed rule to designate critical habitat for the Klamath River and Columbia River populations of bull trout (Salvelinus confluentus) on November 29, 2002 (67 FR 71235). The proposed critical habitat designation includes approximately 29,720 kilometers (18,471 miles) of streams and 215,585 hectares (532,721 acres) of lakes, reservoirs, and marshes in Oregon, Washington, Idaho, and Montana. Under the terms of a court-approved settlement agreement, we are required to submit the final rule designating critical habitat to the Federal Register no later than September 21, 2004.

Critical habitat receives protection from destruction or adverse modification through required consultation under section 7 of the Endangered Species Act of 1973, as amended (Act) (16 U.S.C. 1531 et seq.), with regard to actions carried out, funded, or authorized by a Federal agency.

Section 4(b)(2) of the Act requires that we designate or revise critical habitat based upon the best scientific and commercial data available, after taking into consideration the economic or any other relevant impact of specifying any particular area as critical habitat. Based upon the previously published proposal to designate critical habitat for the Klamath River and Columbia River populations of bull trout, we have prepared a draft economic analysis of the proposed critical habitat designation. The economic analysis of this proposed designation of critical habitat suggests that the estimated total potential economic costs of the designation may range from $20.4 million to 31.3 million over a 10-year period, with administrative costs for consultations under section 7 of the Act expected to be approximately $9.6 million annually, and the estimated total project modification costs attributable to section 7 estimated to range from $10.8 to $21.7 million per year. The draft analysis is available on the Internet and from the mailing address in the ADDRESSES section above.

Author

The primary author of this notice is Barbara Behan, U.S. Fish and Wildlife Service (see ADDRESSES section).

Authority: The authority for this action is the Endangered Species Act of 1973 (16 U.S.C. 1531 et seq.).

Dated: March 26, 2004.
Craig Manson,
Assistant Secretary for Fish and Wildlife and Parks.

[FR Doc. 04-7548 Filed 4-2-04; 8:45 am]

BILLING CODE 4310-55-P